DEPARTMENT OF TRANSPORTATION

Federal Aviation Administration

14 CFR Part 39

[Docket No. FAA-2023-2239; Project Identifier MCAI-2023-01201-R; Amendment 39-22627; AD 2023-24-51]

RIN 2120-AA64

Airworthiness Directives; Hélicoptères Guimbal Helicopters

AGENCY: Federal Aviation Administration (FAA), DOT.

ACTION: Final rule; request for comments.

SUMMARY: The FAA is adopting a new airworthiness directive (AD) for all Hélicoptères Guimbal Model Cabri G2 helicopters. This AD was prompted by reports of a crack in the pilot cyclic stick base. This AD requires repetitively inspecting certain part-numbered pilot and co-pilot cyclic stick bases and, depending on the results, corrective action. This AD also prohibits installing those pilot and co-pilot cyclic stick bases unless certain requirements are met. These actions are specified in a European Union Aviation Safety Agency (EASA) AD, which is incorporated by reference. The FAA previously sent this AD as an emergency AD to all known U.S. owners and operators of these helicopters. The FAA is issuing this AD to address the unsafe condition on these products.

DATES: This AD is effective December 28, 2023. Emergency AD 2023-24-51, issued on November 21, 2023, which contained the requirements of this amendment, was effective with actual notice.

The Director of the Federal Register approved the incorporation by reference of certain publications listed in this AD as of December 28, 2023.

The FAA must receive comments on this AD by January 29, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-2239; or in person at Docket Operations between 9 a.m. and 5 p.m., Monday through Friday, except Federal holidays. The AD docket contains this final rule, any comments received, and other information. The address for Docket Operations is listed above.

Material Incorporated by Reference:

• For EASA material identified in this final rule, contact EASA, Konrad-Adenauer-Ufer 3, 50668 Cologne, Germany; telephone +49 221 8999 000; email ADs@easa.europa.eu; internet easa.europa.eu. You may find the EASA material on the EASA website at ad.easa.europa.eu.

• For Guimbal service information identified in this final rule, contact Hélicoptères Guimbal, 1070, rue du Lieutenant Parayre, Aérodrome d'Aix-en-Provence, 13290 Les Milles, France; phone 33-04-42-39-10-88; email support@guimbal.com; or at guimbal.com.

• You may view this material at the FAA, Office of the Regional Counsel, Southwest Region, 10101 Hillwood Pkwy., Room 6N-321, Fort Worth, TX 76177. For information on the availability of this material at the FAA, call (817) 222-5110. It is also available at regulations.gov under Docket No. FAA-2023-2239.

FOR FURTHER INFORMATION CONTACT: Dan McCully, Aviation Safety Engineer, FAA, 1600 Stewart Avenue, Suite 410, Westbury, NY 11590; phone (404) 474-5548; email william.mccully@faa.gov.

SUPPLEMENTARY INFORMATION:

Comments Invited

The FAA invites you to send any written data, views, or arguments about this final rule. Send your comments to an address listed under ADDRESSES. Include “Docket No. FAA-2023-2239; Project Identifier MCAI-2023-01201-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dan McCully, Aviation Safety Engineer, FAA, 1600 Stewart Avenue, Suite 410, Westbury, NY 11590; phone (404) 474-5548; email william.mccully@faa.gov. Any commentary that the FAA receives that is not specifically designated as CBI will be placed in the public docket for this rulemaking.

Background

The FAA issued Emergency AD 2023-24-51, dated November 21, 2023 (the emergency AD), to address an unsafe condition on all Hélicoptères Guimbal Model Cabri G2 helicopters. The FAA sent the emergency AD to all known U.S. owners and operators of these helicopters. The emergency AD requires repetitively inspecting certain part-numbered pilot and co-pilot cyclic stick bases for a crack and, depending on the results, removing the cracked cyclic stick base from service and replacing it with a serviceable cyclic stick base in accordance with a method approved by the FAA, EASA, or Hélicoptères Guimbal EASA Design Organization Approval (DOA). The emergency AD also prohibits installing an affected pilot or co-pilot cyclic stick base unless it is new (zero total hours time-in-service) or it has passed its required inspection.

The emergency AD was prompted by EASA Emergency AD 2023-0204-E, dated November 20, 2023 (EASA AD 2023-0204-E), issued by EASA, which is the Technical Agent for the Member States of the European Union, to correct an unsafe condition on Hélicoptères Guimbal Model Cabri G2 helicopters. EASA AD 2023-0204-E states that further investigation determined that the root cause of the cracks is fatigue, primarily related to induced loads on the cyclic stick during pre-flight (free play) checks. Accordingly, EASA AD 2023-0204-E requires repetitively inspecting certain part-numbered pilot and co-pilot cyclic stick bases and, depending on the results, corrective action. EASA AD 2023-0204-E also prohibits installing those pilot and co-pilot cyclic stick bases unless its requirements are met.

You may examine EASA AD 2023-0204-E in the AD docket at regulations.gov under Docket No. FAA-2023-2239.

The FAA is issuing this AD to detect a cracked pilot or co-pilot cyclic stick base. This condition, if not addressed, could result in failure of the pilot or co-pilot cyclic stick base and subsequent loss of control of the helicopter.

Related Service Information Under 1 CFR Part 51

The FAA reviewed EASA AD 2023-0204-E, which requires repetitively inspecting pilot cyclic stick base part number (P/N) G41-42-801 and co-pilot cyclic stick base P/Ns G41-43-801 and G41-43-802 for a crack. Depending on the results, EASA AD 2023-0204-E requires contacting HG [Hélicoptères Guimbal] for approved instructions to replace a cracked cyclic stick base and accomplishing those instructions accordingly. EASA AD 2023-0204-E also allows removing the dual control (co-pilot cyclic stick) instead of replacing a cracked co-pilot cyclic stick base. Lastly, EASA AD 2023-0204-E prohibits installing a specified pilot or co-pilot cyclic stick base unless it is a new (never installed before) part or, before installation, has passed its required inspection.

The FAA also reviewed Guimbal Mandatory Service Bulletin SB 23-006, Revision B, dated November 14, 2023 (SB 23-006B), which specifies procedures for an initial and repetitive inspections of both the pilot and copilot cyclic bases for cracks. SB 23-006B specifies doing the inspection using a flashlight and in case of doubt, performing a dye-penetrant inspection. If there is a crack on the pilot's side, SB 23-006B specifies grounding the helicopter and contacting HG [Hélicoptères Guimbal]; if there is a crack on the copilot's side, SB 23-006B specifies removing the dual controls and contacting HG.

This material is reasonably available because the interested parties have access to it through their normal course of business or by the means identified in the ADDRESSES section.

FAA's Determination

These helicopters have been approved by the aviation authority of the European Union and are approved for operation in the United States. Pursuant to the FAA's bilateral agreement with the European Union, EASA, its technical representative, has notified the FAA of the unsafe condition described in its emergency AD. The FAA is issuing this AD after evaluating all pertinent information and determining that the unsafe condition exists and is likely to exist or develop on other helicopters of the same type design.

Requirements of This AD

This AD requires accomplishing the actions specified in EASA AD 2023-0204-E, described previously, as incorporated by reference, except for any differences identified as exceptions in the regulatory text of this AD and except as discussed under “Differences Between this AD and the EASA Emergency AD.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2023-0204-E is incorporated by reference in this FAA final rule. This AD, therefore, requires compliance with EASA AD 2023-0204-E in its entirety through that incorporation, except for any differences identified as exceptions in the regulatory text of this AD. Using common terms that are the same as the heading of a particular section in EASA AD 2023-0204-E does not mean that operators need comply only with that section. For example, where the AD requirement refers to “all required actions and compliance times,” compliance with this AD requirement is not limited to the section titled “Required Action(s) and Compliance Time(s)” in EASA AD 2023-0204-E. Service information referenced in EASA AD 2023-0204-E for compliance will be available at regulations.gov under Docket No. FAA-2023-2239 after this final rule is published.

Differences Between This AD and the EASA Emergency AD

The service information referenced in EASA AD 2023-0204-E specifies performing a dye-penetrant inspection in case of a doubt regarding if there is a crack, whereas this AD does not require that action. If there is cracked pilot or co-pilot cyclic stick base, EASA AD 2023-0204-E requires contacting HG [Hélicoptères Guimbal] for approved instructions to replace it with a serviceable part and accomplishing those instructions accordingly and the service information referenced in EASA AD 2023-0204-E specifies contacting HG [Hélicoptères Guimbal] or removing the dual controls and contacting HG [Hélicoptères Guimbal], whereas this AD requires removing the cracked cyclic stick base from service and replacing it with a serviceable cyclic stick base in accordance with a method approved by the FAA, EASA, or Hélicoptères Guimbal EASA DOA.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that required the immediate adoption of Emergency AD 2023-24-51, issued on November 21, 2023, to all known U.S. owners and operators of these helicopters. The FAA found that the risk to the flying public justified waiving notice and comment prior to adoption of this rule because the affected component is part of an assembly that is critical to the control of a helicopter. As the FAA also has no information pertaining to the quantity of cracked components that may currently exist in the U.S. fleet or how quickly the condition may propagate to failure, the actions required by this AD must be accomplished before further flight for certain helicopters. These conditions still exist, therefore, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 49 helicopters of U.S. Registry. Labor rates are estimated at $85 per work-hour. Based on these numbers, the FAA estimates the following costs to comply with this AD.

Inspecting a pilot or co-pilot cyclic stick base takes a minimal amount of time for a nominal cost. If required, replacing a pilot cyclic stick base takes about 3 work-hours and parts cost about $1,585 for an estimated cost of $1,840 per helicopter; and replacing a co-pilot cyclic stick base takes about 1 work-hour and parts cost about $711 for an estimated cost of $796 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-24-51 Hélicoptères Guimbal: Amendment 39-22627; Docket No. FAA-2023-2239; Project Identifier MCAI-2023-01201-R.

(a) Effective Date

The FAA issued Emergency Airworthiness Directive (AD) 2023-24-51 on November 21, 2023, directly to affected owners and operators. As a result of such actual notice, that emergency AD was effective for those owners and operators on the date it was provided. This AD contains the same requirements as that emergency AD and, for those who did not receive actual notice, is effective on December 28, 2023.

(b) Affected ADs

None.

(c) Applicability

This AD applies to Hélicoptères Guimbal Model Cabri G2 helicopters, certificated in any category.

(d) Subject

Joint Aircraft System Component (JASC) Code: 6710, Main Rotor Control.

(e) Unsafe Condition

This AD was prompted by reports of a crack in the pilot cyclic stick base. The FAA is issuing this AD to detect a cracked pilot or co-pilot cyclic stick base. The unsafe condition, if not addressed, could result in failure of the pilot or co-pilot cyclic stick base and subsequent loss of control of the helicopter.

(f) Compliance

Comply with this AD within the compliance times specified, unless already done.

(g) Requirements

Except as specified in paragraph (h) of this AD: Comply with all required actions and compliance times specified in, and in accordance with, European Union Aviation Safety Agency (EASA) Emergency AD 2023-0204-E, dated November 20, 2023 (EASA AD 2023-0204-E).

(h) Exceptions to EASA AD 2023-0204-E

(1) Where EASA AD 2023-0204-E defines “the SB,” this AD requires using Guimbal Mandatory Service Bulletin SB 23-006, Revision B, dated November 14, 2023.

(2) Where EASA AD 2023-0204-E refers to its effective date, this AD requires using the effective date of this AD.

(3) Where EASA AD 2023-0204-E requires compliance in terms of flight hours, this AD requires using hours time-in-service.

(4) Where Table 1 in EASA AD 2023-0204-E states, “Compliance Time after the Effetive Date,” for this AD, replace that text with, “Compliance Time after the Effective Date.”

(5) Where Note (1) of EASA AD 2023-0204-E states, “For the initial inspection, a single ferry flight without passengers is allowed to a maintenance location, where the actions required by this AD can be accomplished,” for this AD, replace that text with, “For the initial inspection, a single special flight permit may be issued in accordance with 14 CFR 21.197 and 21.199 to a maintenance location where the actions required by this AD can be accomplished, provided there are no passengers onboard.”

(6) Where the service information referenced in EASA AD 2023-0204-E states performing a dye-penetrant inspection, this AD does not require that action.

(7) Instead of complying with paragraphs (2) and (3) of EASA AD 2023-0204-E and paragraph d) of the service information referenced in EASA AD 2023-0204-E, for this AD, comply with the following: “As a result of an inspection required by paragraph (1) of EASA AD 2023-0204-E, if there is a crack, before further flight, remove the affected part, as defined in EASA AD 2023-0204-E, from service and replace it with a serviceable part, as defined in EASA AD 2023-0204-E, in accordance with a method approved by the Manager, International Validation Branch, FAA; or EASA; or Hélicoptères Guimbal EASA Design Organization Approval (DOA). If approved by the DOA, the approval must include the DOA-authorized signature.”

(8) This AD does not adopt the “Remarks” section of EASA AD 2023-0204-E.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD. Information may be emailed to: 9-AVS-AIR-730-AMOC@faa.gov.

(2) Before using any approved AMOC, notify your appropriate principal inspector, or lacking a principal inspector, the manager of the local flight standards district office/certificate holding district office.

(j) Additional Information

For more information about this AD, contact Dan McCully, Aviation Safety Engineer, FAA, 1600 Stewart Avenue, Suite 410, Westbury, NY 11590; phone (404) 474-5548; email william.mccully@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) Emergency AD 2023-0204-E, dated November 20, 2023.

(ii) Guimbal Mandatory Service Bulletin SB 23-006, Revision B, dated November 14, 2023.

(3) For EASA AD 2023-0174-E, contact EASA, Konrad-Adenauer-Ufer 3, 50668 Cologne, Germany; telephone +49 221 8999 000; email ADs@easa.europa.eu; internet easa.europa.eu. You may find the EASA material on the EASA website at ad.easa.europa.eu.

(4) For Guimbal service information identified in this AD, contact contact Hélicoptères Guimbal, 1070, rue du Lieutenant Parayre, Aérodrome d'Aix-en-Provence, 13290 Les Milles, France; phone 33-04-42-39-10-88; email support@guimbal.com; or at guimbal.com.

(5) You may view this service information at the FAA, Office of the Regional Counsel, Southwest Region, 10101 Hillwood Pkwy., Room 6N-321, Fort Worth, TX 76177. For information on the availability of this material at the FAA, call (817) 222-5110.

(6) You may view this material that is incorporated by reference at the National Archives and Records Administration (NARA). For information on the availability of this material at NARA, visit www.archives.gov/federal-register/cfr/ibr-locations or email fr.inspection@nara.gov.

Issued on December 8, 2023.
Victor Wicklund,
Deputy Director, Compliance & Airworthiness Division, Aircraft Certification Service.

[FR Doc. 2023-27429 Filed 12-11-23; 11:15 am]

BILLING CODE 4910-13-P